DEPARTMENT OF ENERGY

Federal Energy Regulatory Commission

[Docket No. CP08-457-000]

CenterPoint Energy Gas Transmission Company-Mississippi River Transmission Corporation; Notice of Request Under Blanket Authorization

August 15, 2008.

Take notice that on August 6, 2008, CenterPoint Energy Gas Transmission Company-Mississippi River Transmission Corporation (MRT), 1111 Louisiana Street, Houston, Texas, 77002 filed in Docket No. CP08-457-000 a prior notice request pursuant to sections 157.205 and 157.213(b) of the Commission's regulations under the Natural Gas Act (NGA), and MRT's blanket certificate issued in Docket No. CP82-489-000.¹ MRT seeks authorization to drill, own and operate four new vertical storage wells, 3.4 miles of 6-inch and 4-inch associated storage field flow lines, 4-inch orifice meters and appurtenant measurement facilities including one automatic and three manual control valves, and approximately 1.3 miles of new permanent access roads, all within MRT's East Unionville Storage Field (East Unionville) in Lincoln Parish, Louisiana, all as more fully set forth in the application which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

¹ 20 FERC ¶ 62,579 (1982).

Specifically, MRT proposes to construct, own and operate the four new wells and appurtenant facilities for the purpose of recovering non-effective gas and restoring late season deliverability for MRT's customers. Pursuant to the requirements of section 157.213(b) of the Commission's regulations, the proposed facilities will not impact the total inventory, pressure, boundaries, or certificated capacity of East Unionville. MRT projects that after successful completion of the project, it will be able to increase its mid-to late-season deliverability from 340 MMcf/d to 390 MMcf/d.² As MRT is obligated by Article 7.4 of its 2001 Uncontested Stipulation and Agreement in Docket Nos. TM00-1-25-000, et al., and RP01-292-000, et al., to restore the late season deliverability and to bear all costs incurred to meet customer deliverability requirements,³ MRT is not requesting rolled-in rate treatment for the approximately $15.9 million cost associated with the construction of the proposed facilities. These costs will be recorded and maintained in a separate account to be excluded from MRT's rate base in any future rate case.

² MRT's certificated maximum withdrawal volume is 480,000 Mcf/d [51 FPC ¶ 1,866 (1974)].

³ 98 FERC ¶ 61,021 (2002).

Any questions regarding this application should be directed to Lawrence O. Thomas, Director, Rate & Regulatory, CenterPoint Energy-Mississippi River Transmission Corporation, P.O. Box 21743, Supervisor—Rate & Regulatory, CenterPoint Energy Gas Transmission Company, P.O. Box 21734, Shreveport, Louisiana 71151, or call (318) 429-2804, FAX (318) 429-3133.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the Internet in lieu of paper. See 18 CFR 385.2001(a)(1)(iii) and the instructions on the Commission's Web site (http://www.ferc.gov) under the “e-Filing” link. Persons unable to file electronically should submit an original and 14 copies of the protest or intervention to the Federal Energy regulatory Commission, 888 First Street, NE., Washington, DC 20426.

Comment Date: October 14, 2008.

Kimberly D. Bose,
Secretary.

[FR Doc. E8-19823 Filed 8-26-08; 8:45 am]

BILLING CODE 6717-01-P